FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than March 22, 2010.

A. Federal Reserve Bank of Philadelphia (Michael E. Collins, Senior Vice President) 100 North 6th Street, Philadelphia, Pennsylvania 19105-1521:

1. Patriot Financial Partners, GP, L.P.; Patriot Financial Partners, L.P.; Patriot Financial Partners Parallel, L.P.; Patriot Financial Partners, GP, LLC; Patriot Financial Managers, L.P.; Ira M. Lubert; W. Kirk Wycoff; and James J. Lynch, all of Philadelphia, Pennsylvania; to acquire voting shares of Central Valley Community Bancorp, and thereby indirectly acquire voting shares of Central Valley Community Bank, both of Fresno, California.

B. Federal Reserve Bank of Kansas City (Dennis Denney, Assistant Vice President) 1 Memorial Drive, Kansas City, Missouri 64198-0001:

1. Olen Ray Hibbard and William Michael Thompson, both of Edmond, Oklahoma; as trustees of the Citizens Bancshares, Inc. Employee Stock Ownership Trust, Edmond, Oklahoma, to retain voting shares of Citizens Bancshares, Inc., and thereby indirectly retain voting shares of Citizens Bank of Edmond, both in Edmond, Oklahoma.

Board of Governors of the Federal Reserve System, March 2, 2010.
Jennifer J. Johnson,
Secretary of the Board.

[FR Doc. 2010-4740 Filed 3-5-10; 8:45 am]

BILLING CODE 6210-01-S